DEPARTMENT OF ENERGY

Federal Energy Regulatory Commission

Notice of Application Ready for Environmental Analysis and Soliciting Comments, Recommendations, Terms and Conditions, and Prescriptions

October 13, 2006.

Take notice that the following hydroelectric application has been filed with the Commission and is available for public inspection.

a. Type of Application: Original Major License under 5 megawatts (MW).

b. Project No: 11879-002.

c. Date filed: May 20, 2004.

d. Applicant: Symbiotics, LLC.

e. Name of Project: Chester Diversion Hydroelectric Project.

f. Location: On Henry's Fork of the Snake River, near the Town of Rexburg, in Fremont County, Idaho.

g. Filed Pursuant to: Federal Power Act, 16 U.S.C. 791 (a)—825(r).

h. Applicant Contact: Brent L. Smith, Northwest Power Services, Inc. P.O. Box 535, Rigby, Idaho 83442, (208) 745-0834.

i. FERC Contact: Emily Carter, 202-502-6512, Emily.Carter@ferc.gov.

j. Deadline for filing comments, recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted and is now ready for environmental analysis.

l. The Applicant proposes to utilize the existing BOR Chester Diversion dam on the Henry's Fork of the Snake River. The dam has an overall structural height of 17 feet and a total length of 457 feet, spanning the river. Operation of the project would depend on flows in the Henry's Fork and would be dependent on the irrigation season. It would be operated run-of-river and no storage would occur at the project.

The proposed project would consist of the following facilities: (1) A new three-foot-high inflatable rubber dam bolted to the crest of the existing spillway; (2) a new 50-foot-wide concrete spillway; (3) two new Kaplan-type turbine generator units with a combined generating capacity of 3.3 MW; (4) a new low-profile powerhouse; and (5) appurtenant facilities.

The applicant estimates that the average annual generation would be about 16.8 gigawatthours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “Comments”, “Reply Comments”, “Recommendations,” “Terms and Conditions,” or “Prescriptions;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. Procedural schedule and final amendments: Revisions to the schedule will be made as appropriate. The schedule given in the September 6, 2005, Scoping Document 1 is revised as follows:

Notice that application is ready for environmental analysis (EA): October 2006.

Notice of the availability of the EA: March 2007.

Magalie R. Salas,
Secretary.

[FR Doc. E6-17502 Filed 10-18-06; 8:45 am]

BILLING CODE 6717-01-P